EXPORT-IMPORT BANK OF THE UNITED STATES

Agency Information Collection Activities; Proposed Collection; Comment Request

AGENCY: Export-Import Bank of the United States.

ACTION: Notice.

SUMMARY: Under the provisions of the Paperwork Reduction Act of 1995 the Export-Import Bank of the United States is submitting to the Office of Management and Budget (OMB) a request to review and approve a revised exporter and banker survey which expired on February 28, 1999. The purpose of the survey is to fulfill a statutory mandate (the Export-Import Bank Act of 1945, as amended, 12 U.S.C. 635) which directs Ex-Im Bank to report annually to the U.S. Congress any action taken toward providing export credit programs that are competitive with those offered by official foreign export credit agencies. The Act further stipulates that the annual report on competitiveness should include the results of a survey of lending institutions to determine whether their export financing is competitive with that of their foreign counterparts.

Accordingly, Ex-Im Bank is requesting that the proposed survey (EIB No. 00-02) be sent to approximately 50 respondents, split equally between bankers and exporters. The new survey is the same as in previous years as it asks bankers and exporters to evaluate the competitiveness of Ex-Im Bank's programs vis-à-vis foreign export credit agencies. However, it has been modified in order to account for newer policies and to capture enough information to provide a better analysis of our competitiveness.

DATES: Written comments should be received on or before March 6, 2000.

ADDRESSES: Direct all written comments or requests for additional information to David Rostker, Office of Management and Budget, Information and Regulatory Affairs, New Executive Office Building, Washington, D.C. 20503, (202) 395-3897.

FOR FURTHER INFORMATION CONTACT: Carlista Robinson (202) 565-3351

SUPPLEMENTARY INFORMATION: Type of Request: Revision.

Annual Number of Respondents: 50.

Annual Burden Hours: 50.

Frequency of Reporting or Use: Annual survey.

Dated: January 31, 2000.
Carlista Robinson,
Agency Clearance Officer.

[FR Doc. 00-2507 Filed 2-3-00; 8:45 am]

BILLING CODE 6690-01-M